DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 113 applications from individuals who requested an exemption from the Federal vision standard applicable to interstate truck and bus drivers and the reasons for the denials. FMCSA has statutory authority to exempt individuals from the vision standard if the exemptions granted will not compromise safety. The agency has concluded that granting exemptions for the 113 applicants would not likely provide a level of safety equivalent to, or greater than the level of safety maintained without the exemptions for these commercial motor vehicle (CMV) drivers.

FOR FURTHER INFORMATION CONTACT: Dr. Mary D. Gunnels, Office of Bus and Truck Standards and Operations, Physical Qualifications Division (MC-PSP) 202-366-4001, Department of Transportation, FMCSA, 400 Seventh Street, SW., Washington, DC 20590-0001. Office hours are 8 a.m. to 5 p.m. e.t., Monday through Friday, except Federal holidays.

SUPPLEMENTARY INFORMATION:

Background

Under 49 U.S.C. 31315 and 31136(e), FMCSA may grant an exemption from the Federal vision standard for a renewable two-year period if it finds such an exemption would likely achieve a level of safety that is equivalent to, or greater than, the level that would be achieved absent such an exemption. (49 CFR 381.305(a)).

Accordingly, FMCSA evaluated 113 individual exemption requests on their merits and made a determination that these applicants do not satisfy the eligibility criteria for the Federal exemption program. Each applicant has, prior to this notice, received a letter of final disposition on his/her exemption request. Those decision letters fully outlined the basis for the denial and constitute final agency action. The list published today summarizes the agency's recent denials as required under 49 U.S.C. 31315(b)(4) by periodically publishing names and reasons for denials.

The following 18 applicants lacked sufficient driving experience during the three-year period prior to the date of their application:

Ahne, Stanley W.

Beasley, Mark H.

Black, Edward

Cinko, John R.

Collins, Kevin E.

DeCaro, Albert P.

Faw, Louis D.

Gomez, Jr., Galdino L.

Klein, William C.

McCluer, Jerry D.

Merrill, Roy A.

Moreland, Richard

Robertson, Leland F.

Sinclair, John F.

Thomas, Terry B.

Thompson, Kevin S.

Warfield, Richard D.

Zepernick, Sr., Edward A.

The following 16 applicants do not have any experience operating a CMV.

Benton, Joseph F.

Berry, Sr., Michael S.

Brobbel, Simon J.

Cherry, Charlie L.

Chess, James J.

Dawes, Calvin L.

Dennison, Robert J.

Gulley, Thomas R.

Hayos, Anastacio D.

Jones, Frederick L.

King, Douglas

Manion, Corey P.

Perea, Jose F.

Stoddard, Edgar P.

Weinman, Bruce L.

Young, Kurtis, T.

The following 16 applicants do not have 3 years of experience driving a CMV on public highways with the vision deficiency.

Beckworth III, Jimmy D.

Duval, Ronald

Hobbs, Carl D.

House, Carlton E.

Howard, Mark P.

Hummel, Timonthy B.

Jarvis, Larry L.

Neefe, Steven J.

Reid, Paul R.

Scheve, Jarod S.

Thulin, Bruce E.

Vigil, Francisco C.

Wainwright, James C.

Weigel, Eugene M.

Williams, Carl A.

Wood, John E.

The following 12 applicants did not operate a commercial vehicle during the 3 years prior to the date they applied for the exemption and therefore do not have 3 years of recent experience driving a CMV with the vision deficiency.

Bon, Edward L.

Gaillard, Henry A.

Gamez, Exiquio

Green, Lefonne C.

Hill, Danny J.

Leonard, Gary W.

Martin, Jesse L.

Maxwell, Brian A.

Newman, Gordon S.

Taves, Michael A.

Vanatta, Dennis M.

Wells, David L.

The following 25 applicants did not operate a commercial vehicle during part of the 3 years prior to the date they applied for the exemption and therefore lack sufficient driving experience over the past 3 years under normal highway operating conditions.

Brunson, Johnny L.

Cashman, Dean T.

Chaplin, Mryl S.

Cornell, Chaney T.

Downer, Scott W.

Fitzgerald, David P.

Gregory, Jimmy D.

Gysberg, Rocky D.

Holt, Lee P.

Kennedy, Millard S.

Kenney III, Peter M.

Lawrence, Clifford L.

Mayson, Tyrone O.

Moctar, Bouha O.

Moreno, Rick P.

McKnight, Tommy L.

Natola, Eric J.

Paraf, Corey

Plumley, James C.

Schmidt, Brendon K.

Shoemaker, David C.

Smith, Clay L.

Tade, Jerry W.

Thompson, Arnold L.

Virgen-Meza, Francisco

Three applicants, Charles W. Jones, Mark L. McWhorter, and Keith L. Wraight, were charged with a moving violation in conjunction with a CMV crash, which makes them ineligible.

Two applicants, Cleaven E. Barrett and Darrell B. Dean, do not have sufficient peripheral vision in the better eye to qualify for an exemption.

Four applicants had commercial driver's licenses suspensions during the three-year review period in relation to a moving violation. Applicants are ineligible for an exemption if their license is suspended during the three-year period prior to the date they applied for the exemption.

Glenn, Curtis J.

Gwyn, Terry W.

Roberson, Terry L.

Selleck, David A.

One applicant, David M. Field, had 2 serious CMV violations within a three-year period. Each applicant is allowed a total of 2 moving violations, one of which can be serious. Three applicants, Wilfred J. Gagnon, James R. King, and Kenneth G. Mallette, contributed to a crash while operating a CMV. Applicants do not qualify for an exemption if they have contributed to a crash during the three-year review period.

Two applicants, Rayfus J. Hewitt and Limmie J.T. Sweet, did not hold a license that allowed operation of vehicles over 26,000 pounds, for all or part of the three-year review period.

The following four applicants meet the vision standard and do not need a vision exemption.

Adkison, Gary L.

Albrecht, Thomas K.

Fry, Donald L.

Maust, Larry A.

One applicant, Lyndon P. Walker, was disqualified for multiple reasons.

One applicant, Merrill C. Vogelzang, provided inconsistent information that could not be verified during the application process.

Three applicants, Levern F. Brantner, Jr., Troy Harrison, and James E. Kilby, III, were disqualified because their vision was not stable for the entire three-year review period.

One applicant, Raymond P. Gonzales, did not submit all of the required documentation and therefore presented no verifiable evidence that he met the terms and conditions of the Federal vision exemption program.

Finally, one applicant, Alphonso L. Mitchell, does not meet the vision standard in his better eye.

Issued on: February 22, 2006.
Pamela M. Pelcovits,
Director for Policy Plan's and Regulations.

[FR Doc. E6-2828 Filed 2-28-06; 8:45 am]

BILLING CODE 4910-EX-P